ENVIRONMENTAL PROTECTION AGENCY

40 CFR Part 52

[EPA-R05-OAR-2022-0983; FRL-11757-02-R5]

Air Plan Approval; Ohio; Moderate Attainment Plan Elements for the Cleveland Area for the 2015 Ozone Standard

AGENCY: Environmental Protection Agency (EPA).

ACTION: Final rule.

SUMMARY: The Environmental Protection Agency (EPA) is approving the following portions of Ohio's State Implementation Plan (SIP) submission for the Cleveland 2015 ozone national ambient air quality standard (NAAQS or standard) Moderate nonattainment area: the base year emissions inventory, the reasonable further progress (RFP) demonstration, the motor vehicle inspection and maintenance (I/M) program, and the nonattainment new source review (NNSR) program. EPA is approving these portions of the state's submission as a SIP revision pursuant to section 110 and part D of the Clean Air Act (CAA) and EPA's regulations. EPA is also finding adequate and approving the 2023 motor vehicle emissions budgets (budgets) associated with the Cleveland Moderate ozone nonattainment RFP demonstration. EPA proposed to approve this action on January 3, 2025, and received no comments.

DATES: This final rule is effective on August 6, 2025.

ADDRESSES: EPA has established a docket for this action under Docket ID No. EPA-R05-OAR-2022-0983. All documents in the docket are listed on the https://www.regulations.gov website. Although listed in the index, some information is not publicly available, i.e., Confidential Business Information (CBI), Proprietary Business Information (PBI), or other information whose disclosure is restricted by statute. Certain other material, such as copyrighted material, is not placed on the internet and will be publicly available only in hard copy form. Publicly available docket materials are available either through https://www.regulations.gov or at the Environmental Protection Agency, Region 5, Air and Radiation Division, 77 West Jackson Boulevard, Chicago, Illinois 60604. This facility is open from 8:30 a.m. to 4:30 p.m., Monday through Friday, excluding Federal holidays. We recommend that you telephone Kathleen D'Agostino, at (312) 886-1767 before visiting the Region 5 office.

FOR FURTHER INFORMATION CONTACT: Kathleen D'Agostino, Air and Radiation Division (AR-18J), Environmental Protection Agency, Region 5, 77 West Jackson Boulevard, Chicago, Illinois 60604, (312) 886-1767, DAgostino.Kathleen@epa.gov.

SUPPLEMENTARY INFORMATION: Throughout this document whenever “we,” “us,” or “our” is used, we mean EPA.

I. Background Information

On January 3, 2025 (90 FR 283), EPA proposed to approve the following portions of Ohio's December 21, 2022, attainment plan submission: the 2017 base year emissions inventory, the RFP demonstration, the motor vehicle I/M program, and the NNSR program. EPA also initiated the adequacy process for the 2023 motor vehicle emissions budgets for the Cleveland area included in this SIP submission. An explanation of the CAA requirements, a detailed analysis of the revisions, and EPA's reasons for proposing approval were provided in the notice of proposed rulemaking, and will not be restated here. The public comment period for this proposed rule ended on February 3, 2025. EPA received no comments on the proposal.

II. Final Action

EPA is approving revisions to Ohio's SIP pursuant to section 110 and part D of the CAA and EPA's regulations promulgated thereto, because Ohio's December 21, 2022, attainment plan submission satisfies the base year emissions inventory, RFP demonstration, I/M, and NNSR requirements of the CAA for the Cleveland area for the 2015 ozone NAAQS. EPA is also finding adequate and approving the 2023 motor vehicle emissions budgets associated with the Cleveland Moderate ozone nonattainment RFP demonstration.

Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by September 5, 2025. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen oxides, Ozone, Volatile organic compounds.

Dated: June 23, 2025.
Anne Vogel,
Regional Administrator, Region 5.

For the reasons stated in the preamble, title 40 CFR part 52 is amended as follows:

PART 52—APPROVAL AND PROMULGATION OF IMPLEMENTATION PLANS

1. The authority citation for part 52 continues to read as follows:

Authority: 42 U.S.C. 7401 et seq.

2. In § 52.1870, the table in paragraph (e) is amended under “Summary of Criteria Pollutant Attainment Plans” by revising the entry for “Ozone (8-Hour, 2015)” with an Applicable geographical or non-attainment area of Cleveland to read as follows:

§ 52.1870 Identification of plan.

* * * * *

(e) * * *

EPA-APPROVED OHIO NONREGULATORY AND QUASI-REGULATORY PROVISIONS
Title | Applicable geographical or non-attainment area | State date | EPA approval | Comments
* * * * * * *
Summary of Criteria Pollutant Attainment Plans
* * * * * * *
Ozone (8-Hour, 2015) | Cleveland | 12/21/2022 | 7/7/2025, 90 FR [insert Federal Register page where the document begins] | EPA is approving only the 2017 base year emissions inventory, the reasonable further progress demonstration including associated 2023 motor vehicle emissions budgets, I/M, and nonattainment new source review.
* * * * * * *

* * * * *

[FR Doc. 2025-12512 Filed 7-3-25; 8:45 am]

BILLING CODE 6560-50-P